DEPARTMENT OF THE TREASURY

Agency Information Collection Activities; Submission for OMB Review; Comment Request; Generic Clearance Approval Request for Cognitive and Psychological Research

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before October 5, 2020 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Internal Revenue Service (IRS)

Title: Generic Clearance Approval Request for Cognitive and Psychological Research.

OMB Control Number: 1545-1349.

Type of Review: Extension without change of a currently approved collection.

Description: The proposed research will improve the quality of data collection by examining the psychological and cognitive aspects of methods and procedures such as: Interviewing processes, forms redesign, survey and tax collection technology and operating procedures (internal and external in nature).

Form: None.

Affected Public: Businesses and other for-profit organizations, and Individuals or Households.

Estimated Number of Respondents: 6,000.

Frequency of Response: On occasion.

Estimated Total Number of Annual Responses: 6,000.

Estimated Time per Response: 1 hour, 30 minutes.

Estimated Total Annual Burden Hours: 9,000 hours.

(Authority: 44 U.S.C. 3501 et seq.)

Dated: August 31, 2020.
Spencer W. Clark,
Treasury PRA Clearance Officer.

[FR Doc. 2020-19579 Filed 9-3-20; 8:45 am]

BILLING CODE 4830-01-P